DEPARTMENT OF THE INTERIOR

Fish and Wildlife Service

[FWS-R2-ES-2008-N0337; 20124-11130000-C4]

Endangered and Threatened Wildlife and Plants; Mexican Wolf (Canis lupus baileyi) Conservation Assessment

AGENCY: Fish and Wildlife Service, Interior.

ACTION: Notice of availability; draft conservation assessment; request for comments.

SUMMARY: We, the U.S. Fish and Wildlife Service (Service) announce the availability of the Draft Mexican Wolf Conservation Assessment (draft assessment) for public review and comment. The draft assessment provides scientific information relevant to the conservation of the Mexican wolf (Canis lupus baileyi) in Arizona and New Mexico as a component of the Service's gray wolf (Canis lupus) recovery efforts. Not required by the Endangered Species Act (Act), the draft assessment is a non-regulatory document that does not require action by any party. We solicit review and comment from the public on this document.

DATES: To ensure consideration, we must receive any comments from interested parties no later than March 10, 2009.

ADDRESSES: You may obtain a paper or electronic copy of the draft assessment by contacting John Slown, Biologist, New Mexico Ecological Services Field Office, 2105 Osuna, NE., Albuquerque, NM 87113; telephone: 505/761-4782, facsimile 505/346-2542, e-mail: John_Slown@fws.gov. The draft assessment is also available online at: http://www.fws.gov/southwest/es/mexicanwolf/.

You may submit written comments on the draft assessment by any one of the following means: (1) By U.S. mail to John Slown at the Albuquerque address above; (2) by fax to the number above, or (3) e-mail to mexwolfdca@fws.gov. We must receive comments by the date in DATES.

FOR FURTHER INFORMATION CONTACT: Direct all questions or requests for more information on the draft assessment to John Slown, Biologist, at the Albuquerque address above; telephone: 505/761-4782.

SUPPLEMENTARY INFORMATION: We announce the availability of the Draft Mexican Wolf Conservation Assessment (draft assessment) for public review and comment. The draft assessment provides scientific information relevant to the conservation of the Mexican wolf (Canis lupus baileyi) in Arizona and New Mexico as a component of the Service's gray wolf (Canis lupus) recovery efforts. Not required by the Endangered Species Act (16 U.S.C. 1531 et seq.; Act) the draft assessment is a non-regulatory document that does not require action by any party. We solicit review and comment from the public on this document.

Listed Entity

The Mexican wolf was listed as an endangered subspecies of gray wolf in 1976 (41 FR 17736, April 28, 1976). In 1978, the Service listed the gray wolf species in North America south of Canada as endangered, except in Minnesota where it was listed as threatened (43 FR 9607, March 9, 1978). The 1978 rangewide listing of the gray wolf species subsumed the subspecies listing; however, the preamble to the rule continued to recognize the Mexican wolf as a valid biological subspecies for purposes of research and conservation (43 FR 9607). After the 1978 listing of the gray wolf in the U.S. Code of Federal Regulations (CFR), the 50 CFR 17.11(h) List of Endangered and Threatened Wildlife did not explicitly refer to an entity called the “Mexican wolf.” Due to the Mexican wolf's previous listed status as a subspecies, we have continued to refer to the gray wolf in the southwestern United States as the “Mexican wolf.” Today, the gray wolf is listed as threatened in the Great Lakes and remains endangered throughout the coterminous United States and Mexico, except where designated as non-essential experimental populations (59 FR 60266, November 22, 1994, and 63 FR 1752, January 12, 1998).

Background

The conservation and recovery of species is one of the primary goals of our endangered species program. The Mexican wolf historically inhabited the southwestern United States and portions of Mexico until it was virtually eliminated in the wild by private and governmental predator eradication efforts in the late 1800s and early to mid-1900s. Conservation and recovery efforts to ensure the survival of the Mexican wolf were initially guided by the 1982 Mexican Wolf Recovery Plan (U.S. Fish and Wildlife Service 1982) (recovery plan), which recommended the establishment of a captive breeding program and the reintroduction of Mexican wolves to the wild. Both of these recommendations have been implemented, and today an international captive breeding program houses more than 300 wolves, and a wild population of approximately 52 wolves (as of the official 2007 end-of-year count) inhabits Arizona and New Mexico.

Although the 1982 recovery plan was instrumental in guiding the inception of the Mexican wolf program in the Southwest, the plan requires updating to provide current guidance for the reintroduction and recovery effort. We have initiated revisions to the 1982 plan, but have been unable to finalize a revision due to various logistical constraints. We are working to resolve these constraints to reinitiate a full revision of the recovery plan, and are undertaking this conservation assessment as an interim step.

The draft assessment provides the type of information typically contained in a recovery plan, including the listing history of the Mexican wolf and gray wolf, current species' biology and ecology, an assessment of current threats to the Mexican wolf in the wild, and an overview and assessment of current conservation and recovery efforts. However, the draft assessment is not intended to serve as a revised recovery plan for the Mexican wolf. The assessment does not contain recovery criteria, site-specific management actions, or time and cost estimates, the three statutorily required elements of a recovery plan (16 U.S.C. 1533(f)(1)(B)), nor does it contain recommendations for the future of our Mexican wolf program in the Southwest. Social and economic aspects of wolf conservation are not addressed in the document. It is a non-regulatory document intended solely as a compilation of current scientific information relevant to Mexican wolf conservation that may be used by any interested party. We intend to use the document as one of many information sources guiding our continuing conservation and recovery efforts in the Southwest.

Public Comments Solicited

We seek public comments on the draft assessment. General comments in support of or against wolf recovery or reintroduction are not solicited at this time. All comments and information we receive by the date specified in DATES will be considered prior to the approval of the final Mexican Wolf Conservation Assessment. Concurrent with public review, the Service is soliciting peer review of the draft assessment from persons with expertise in wolf conservation and related disciplines. All comments, including names and addresses, will become part of the supporting record.

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at New Mexico Ecological Services Field Office in Albuquerque, New Mexico (see ADDRESSES).

If you wish to provide comments and/or information, you may submit your comments and materials by any one of several methods (see ADDRESSES). Comments submitted electronically should be in the body of the e-mail message itself or attached as a text file (ASCII), and should not use special characters or encryption. Please also include “Attn: Draft Conservation Assessment,” your full name, and your return address in your e-mail message. If you do not receive a confirmation from the system that we have received your e-mail message, please contact us directly by calling our New Mexico Ecological Services Field Office (see ADDRESSES).

References

All literature referenced in the draft assessment is available for viewing, by appointment, at New Mexico Ecological Services Field Office during normal business hours (see ADDRESSES section).

Authority

The authority for this action is the Endangered Species Act of 1973 (16 U.S.C. 1531 et seq.).

Dated: December 30, 2008.
Nancy J. Gloman,
Acting Regional Director, Region 2.

[FR Doc. E9-298 Filed 1-8-09; 8:45 am]

BILLING CODE 4310-55-P